DEPARTMENT OF ENERGY

Federal Energy Regulatory Commission

Sunshine Act Meetings

TIME AND DATE: June 17, 2021, 10:00 a.m.

PLACE: Open to the public via video Webcast. Join FERC online to view live at http://ferc.capitolconnection.org/.

STATUS: Open.

MATTERS TO BE CONSIDERED: Agenda.

* Note—Items listed on the agenda may be deleted without further notice.

This is a list of matters to be considered by the Commission. It does not include a listing of all documents relevant to the items on the agenda. All public documents, however, may be viewed on line at the Commission's website at https://elibrary.ferc.gov/eLibrary/search using the eLibrary link.

1080th—Meeting
[Open meeting; June 17, 2021; 10:00 a.m.]
Item No. | Docket No. | Company
Administrative
A-1 | AD21-1-000 | Agency Administrative Matters.
A-2 | AD21-2-000 | Customer Matters, Reliability, Security and Market Operations.
Electric
E-1 | AD21-15-000 | Joint Federal-State Task Force on Electric Transmission.
E-2 | PL21-2-000 | State Voluntary Agreements to Plan and Pay for Transmission Facilities.
E-3 | ER21-40-000 | ConocoPhillips Company.
| ER21-42-000 | Tenaska Power Services Company.
| ER21-43-000; ER21-43-001 | Exelon Generation Company, LLC.
| ER21-46-000 | Mercuria Energy America, LLC.
| ER21-47-000 | Tucson Electric Power Company.
| ER21-48-000 | UNS Electric, Inc.
| ER21-51-000; ER21-51-001 | BP Energy Company.
| ER21-52-000 | Public Service Company of New Mexico.
| ER21-55-000 | Mesquite Power, LLC.
| ER21-56-000 | Guzman Energy, LLC.
| ER21-57-000 | Shell Energy North America (US), L.P.
| ER21-58-000 | TransAlta Energy Marketing (U.S.) Inc.
| ER21-59-000 | Brookfield Renewable Trading and Marketing LP.
| ER21-60-000 | PacifiCorp.
| ER21-61-000; ER21-61-001 | El Paso Electric Company.
| ER21-62-000 | Uniper Global Commodities North America LLC.
| ER21-64-000 | Macquarie Energy LLC; Tri-State Generation and Transmission.
| ER21-65-000 | Association, Inc.; EDF Trading North America, LLC.
| ER21-135-000 | Direct Energy Business Marketing, LLC.
| ER21-326-000; ER21-434-000 | Nevada Power Company.
E-4 | RM18-9-003 | Participation of Distributed Energy Resource Aggregations in Markets Operated by Regional Transmission Organizations and Independent System Operators.
E-5 | OMITTED
E-6 | QF17-454-007 | Broadview Solar, LLC.
E-7 | EL21-75-000 | Tri-State Generation and Transmission Association, Inc.
E-8 | ER21-573-002 | Chalk Point Power, LLC.
| ER21-574-002 | Dickerson Power, LLC.
| ER21-575-002 | Lanyard Power Marketing, LLC.
| ER21-577-002 | Morgantown Power, LLC.
| ER21-578-002 | Morgantown Station, LLC.
E-9 | EL21-78-000 | PJM Interconnection, L.L.C.
E-10 | OMITTED
E-11 | ER20-2446-003 | Bitter Ridge Wind Farm, LLC.
E-12 | ER20-2452-001; ER20-2452-002 | Hamilton Liberty LLC.
| ER20-2453-002; ER20-2453-003 | Hamilton Patriot LLC.
E-13 | ER20-2503-002 | Paulding Wind Farm IV LLC.
E-14 | ER20-2322-000; ER20-2323-000; ER20-2354-000; ER20-2355-000 | Midcontinent Independent System Operator, Inc.
E-15 | ER20-2352-000; ER20-2352-001; ER20-2353-000; ER20-2353-001 | Midcontinent Independent System Operator, Inc.
E-16 | ER20-2364-000; ER20-2364-001; ER20-2373-000 | Midcontinent Independent System Operator, Inc.
E-17 | ER21-1638-000 | Daylight I, LLC, Edwards Solar Line I, LLC and Sanborn Solar Line I, LLC.
E-18 | ER20-2953-002 | Lone Tree Wind, LLC.
E-19 | ER20-716-004 | New York Independent System Operator, Inc. and LS Power Grid New York Corporation I.
E-20 | ER21-1321-000 | Harbor Cogeneration Company, LLC.
E-21 | ER20-1947-003 | Greenleaf Energy Unit 2 LLC.
E-22 | EL02-60-007 | Public Utilities Commission of the State of California v. Sellers of Long-Term Contracts to the California Department of Water Resources.
| EL02-62-006 (consolidated) | California Electricity Oversight Board v. Sellers of Long-Term Contracts to the California Department of Water Resources.
E-23 | ER04-835-014 | California Independent System Operator Corporation.
E-24 | ER18-99-006 | Southwest Power Pool, Inc.
E-25 | EL21-61-000 | George Berka v. Andrew M. Cuomo, North American Electric Reliability Corporation, Northeast Power Coordinating Council, New York Independent System Operator, Inc., New York Public Service Commission, Entergy Corporation, and Holtec Decommissioning International.
E-26 | EL20-69-001 | CAlifornians for Renewable Energy and Michael E. Boyd v. California Independent System Operator Corporation, California Public Utilities Commission, Pacific Gas & Electric Company, San Diego Gas & Electric Company, and Southern California Edison Company.
E-27 | EL21-14-001 | NextEra Energy, Inc., Evergy, Inc., American Electric Power Company, Inc., Exelon Corporation, and Xcel Energy Services Inc.
Gas
G-1 | RP21-622-000 | Equinor Natural Gas LLC and The Brooklyn Union Gas Company.
G-2 | RP20-879-000 | Antero Resources Corporation and MU Marketing LLC.
G-3 | OMITTED
G-4 | OR21-5-000 | Equinor Marketing & Trading (US) Inc. v. Mustang Pipe Line LLC.
Hydro
H-1 | P-2082-062; P-14803-000 | PacifiCorp.
| P-14803-004 | Klamath River Renewal Corporation, State of Oregon, and State of California.
H-2 | P-14616-002 | Oregon State University.
H-3 | P-7828-020 | Truckee-Carson Irrigation District.
Certificates
C-1 | CP20-455-000 | Freeport LNG Development, L.P., FLNG Liquefaction, LLC, FLNG Liquefaction 2, LLC, and FLNG Liquefaction 3, LLC.
C-2 | CP20-504-000 | Northern Natural Gas Company.
C-3 | CP21-17-000 | Columbia Gas Transmission, LLC.

CONTACT PERSON FOR MORE INFORMATION: Kimberly D. Bose, Secretary, Telephone (202) 502-8400.

For a recorded message listing items struck from or added to the meeting, call (202) 502-8627.

The public is invited to view the meeting live at http://ferc.capitolconnection.org/. Anyone with internet access who desires to view this event can do so by navigating to www.ferc.gov' s Calendar of Events and locating this event in the Calendar. The event will contain a link to its video webcast. The Capitol Connection provides technical support for this free webcast. It will also offer access to this event via phone bridge for a fee. If you have any questions, visit http://ferc.capitolconnection.org/ or contact Shirley Al-Jarani at 703-993-3104.

Dated: June 10, 2021.
Kimberly D. Bose,
Secretary.

[FR Doc. 2021-12641 Filed 6-11-21; 11:15 am]

BILLING CODE 6717-01-P